DEPARTMENT OF ENERGY

Federal Energy Regulatory Commission

Combined Notice of Filings

Take notice that the Commission has received the following Natural Gas Pipeline Rate and Refund Report filings:

Filings Instituting Proceedings

Docket Numbers: RP19-1304-000.

Applicants: Midcontinent Express Pipeline LLC.

Description: Compliance filing Enable Oklahoma Lease Changes to be effective 6/1/2019.

Filed Date: 6/5/19.

Accession Number: 20190605-5039.

Comments Due: 5 p.m. ET 6/17/19.

Docket Numbers: RP19-1305-000.

Applicants: Texas Eastern Transmission, LP.

Description: § 4(d) Rate Filing: Cleanup—Remove NC Agreement K870274 to be effective 7/5/2019.

Filed Date: 6/5/19.

Accession Number: 20190605-5043.

Comments Due: 5 p.m. ET 6/17/19.

Docket Numbers: RP19-1306-000.

Applicants: Texas Eastern Transmission, LP.

Description: § 4(d) Rate Filing: Negotiated Rates—ConocoPhillips releases eff 6-6-19 to be effective 6/6/2019.

Filed Date: 6/5/19.

Accession Number: 20190605-5067.

Comments Due: 5 p.m. ET 6/17/19.

Docket Numbers: RP19-1307-000.

Applicants: GenOn REMA, LLC, Gilbert Power, LLC, Shawville Power, LLC.

Description: Joint Petition for Temporary Waiver of Commission Policies, Capacity Release Regulations, et al. of GenOn REMA, LLC, et al. under RP19-1307.

Filed Date: 6/5/19.

Accession Number: 20190605-5102.

Comments Due: 5 p.m. ET 6/12/19.

Docket Numbers: RP19-1308-000.

Applicants: Transcontinental Gas Pipe Line Company, LLC.

Description: § 4(d) Rate Filing: Rate Schedule S-2 Tracking Filing eff June 1, 2019 to be effective 6/1/2019.

Filed Date: 6/5/19.

Accession Number: 20190605-5116.

Comments Due: 5 p.m. ET 6/17/19.

Docket Numbers: RP19-1309-000.

Applicants: Trailblazer Pipeline Company LLC.

Description: § 4(d) Rate Filing: Neg Rate 2019-06-05 Castleton to be effective 6/5/2019.

Filed Date: 6/5/19.

Accession Number: 20190605-5135.

Comments Due: 5 p.m. ET 6/17/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 6, 2019.
Kimberly D. Bose,
Secretary.

[FR Doc. 2019-12401 Filed 6-11-19; 8:45 am]

BILLING CODE 6717-01-P